DEPARTMENT OF ENERGY

Federal Energy Regulatory Commission

[Project No. 2809-034]

KEI (Maine) Power Management (III) LLC; Notice of Application Tendered for Filing With the Commission and Soliciting Additional Study Requests and Establishing Procedural Schedule for Relicensing and a Deadline for Submission of Final Amendments

Take notice that the following application has been filed with the Commission and is available for public inspection.

a. Type of Application: Subsequent Minor License.

b. Project No.: 2809-034.

c. Date filed: April 28, 2017.

d. Applicant: KEI (Maine) Power Management (III) LLC (KEI Power).

e. Name of Project: American Tissue Hydroelectric Project.

f. Location: On Cobbosseecontee Stream, in the Town of Gardiner, Kennebec County, Maine. There are no federal or tribal lands within the project boundary.

g. Filed Pursuant to: Federal Power Act 16 U.S.C. 791 (a)-825(r).

h. Applicant Contact: Mr. Lewis Loon, Operations and Maintenance Manager, USA, KEI (Maine) Power Management (III) LLC, 423 Brunswick Avenue, Gardiner, ME 04345; (207) 203-3026.

i. FERC Contact: John Baummer, 202-502-6837, or john.baummer@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: June 27, 2017.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2809-034.

m. The application is not ready for environmental analysis at this time.

n. The existing American Tissue Hydroelectric Project consists of: (1) a 256-foot-long, 23-foot-high stone masonry and concrete dam that includes a 61-foot-long west abutment section, a 100-foot-long spillway section with 1.0-foot-high flashboards and a crest elevation of 123.3 feet mean sea level (msl), and a 95-foot-long east abutment section with an intake structure, inclined trashrack with 2-inch clear spacing, and three low level outlet gates; (2) a 5.5-acre, 1,000-foot-long impoundment with a normal maximum water surface elevation of 123.3 feet msl; (3) a 280-foot-long, 7-foot-diameter buried steel penstock; (4) a 37-foot-long, 34-foot-wide concrete and wooden powerhouse containing a single 1,000-kilowatt turbine-generator unit; (5) a 250-foot-long, 12-kilovolt transmission line; (6) a 300-foot-long tailrace; and (7) appurtenant facilities.

KEI Power operates the project in a run-of-river mode with an average annual generation of 5,430 megawatt-hours. KEI Power proposes to release year-round minimum flows of 10 cubic feet per second (cfs) into the bypassed reach and 52 cfs into the tailrace. KEI Power Management also proposes to improve the existing downstream fish passage facility and construct and operate a new upstream passage facility for American eel.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. Procedural schedule and final amendments: The application will be processed according to the following preliminary Hydro Licensing Schedule. Revisions to the schedule will be made as appropriate.

Issue Deficiency Letter (if necessary), July 2017

Request Additional Information, July 2017

Issue Acceptance Letter, October 2017

Issue Scoping Document 1 for comments, November 2017

Request Additional Information (if necessary), January 2018

Issue Scoping Document 2, February 2018

Issue notice of ready for environmental analysis, February 2018

Commission issues EA or draft EA, August 2018

Comments on EA or draft EA, September 2018

Commission issues final EA, November 2018

Final amendments to the application must be filed with the Commission no later than 30 days from the issuance date of the notice of ready for environmental analysis.

Dated: May 5, 2017.
Kimberly D. Bose,
Secretary.

[FR Doc. 2017-09625 Filed 5-11-17; 8:45 am]

BILLING CODE 6717-01-P